DEPARTMENT OF THE INTERIOR

National Park Service

Golden Gate National Recreation Area and Point Reyes National Seashore Advisory Commission Notice of Meeting Cancellation

Notice is hereby given in accordance with the Federal Advisory Committee Act that the meeting of the Golden Gate National Recreation Area and Point Reyes National Seashore Advisory Commission previously scheduled for Tuesday, February 27, 2001 in San Francisco, California will be cancelled.

The Advisory Commission was established by Public Law 92-589 to provide for the free exchange of ideas between the National Park Service and the public and to facilitate the solicitation of advice or other counsel from members of the public on problems pertinent to the National Park Service systems in Marin, San Francisco and San Mateo Counties. Members of the Commission are as follows:

Mr. Richard Bartke, Chairman

Ms. Susan Giacomini Allan

Mr. Michael Alexander

Ms. Lennie Roberts

Mr. Fred Rodriguez

Mr. Redmond Kernan

Mr. Gordon Bennett

Mr. John J. Spring

Mr. Doug Nadeau

Ms. Amy Meyer, Vice Chair

Mr. Douglas Siden

Mr. Dennis J. Rodoni

Ms. Yvonne Lee

Mr. Trent Orr

Ms. Betsey Cutler

Ms. Anna-Marie Booth

Dr. Edgar Wayburn

Dated: February 8, 2001.
Mary Gibson Scott,
Acting General Superintendent, Golden Gate National Recreation Area.

[FR Doc. 01-4308 Filed 2-22-01; 8:45 am]

BILLING CODE 4310-70-M